DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and who have been removed from the list of Specially Designated Nationals and Blocked Persons.

DATES: See Supplementary Information section for effective dates.

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On November 12, 2021, OFAC determined that the property and interests in property subject to U.S. jurisdiction of the following persons are unblocked and they have been removed from the SDN List.

Individuals

1. VILLARREAL BARRAGAN, Sergio Enrique (a.k.a. VILLAREAL BARRAGAN, Sergio; a.k.a. VILLARREAL BARRAGAN, Sergio), Torreon, Coahuila, Mexico; Cuernavaca, Morelos, Mexico; Mazatlan, Sinaloa, Mexico; DOB 21 Sep 1969; POB Torreon, Coahuila, Mexico; nationality Mexico; citizen Mexico; C.U.R.P. VIBS690921HCLLRR01 (Mexico) (individual) [SDNTK].

2. CIFUENTES VILLA, Lucia Ines, c/o BIO FORESTAL S.A., Medellin, Colombia; c/o C.I. DISTRIBUIDORA DE SERVICIOS COMBUSTIBLES Y MINERIA S.A., Bogota, Colombia; c/o C.I. GLOBAL INVESTMENTS S.A., Medellin, Colombia; c/o C.I. OKCOFFEE COLOMBIA S.A., Bogota, Colombia; c/o C.I. OKCOFFEE INTERNATIONAL S.A., Bogota, Colombia; c/o GANADERIA LA SORGUITA S.A., Medellin, Colombia; c/o HOTELES Y BIENES S.A., Bogota, Colombia; c/o INVERPUNTO DEL VALLE S.A., Cali, Colombia; c/o PARQUES TEMATICOS S.A., Medellin, Colombia; c/o PROMO RAIZ S.A., Medellin, Colombia; c/o ROBLE DE MINAS S.A., Medellin, Colombia; Carrera 41A No. 22 Sur-87, Envigado, Antioquia, Colombia; c/o TRANSPORTADORA Y COMERCIALIZADORA SYSTOLE S.A.S., Envigado, Antioquia, Colombia; DOB 04 Nov 1956; POB Yolombo, Antioquia, Colombia; Cedula No. 32524640 (Colombia) (individual) [SDNTK].

3. CIFUENTES OSORIO, Jorge Andres, c/o BIO FORESTAL S.A., Medellin, Colombia; c/o C.I. DISTRIBUIDORA DE SERVICIOS COMBUSTIBLES Y MINERIA S.A., Bogota, Colombia; c/o C.I. OKCOFFEE COLOMBIA S.A., Bogota, Colombia; c/o C.I. OKCOFFEE INTERNATIONAL S.A., Bogota, Colombia; c/o FUNDACION PARA EL BIENESTAR Y EL PORVENIR, Medellin, Colombia; c/o GANADERIA LA SORGUITA S.A., Medellin, Colombia; c/o HOTELES Y BIENES S.A., Bogota, Colombia; c/o INVERPUNTO DEL VALLE S.A., Cali, Colombia; c/o INVERSIONES CIFUENTES Y CIA. S. EN C., Medellin, Colombia; c/o PARQUES TEMATICOS S.A., Medellin, Colombia; c/o PROMO RAIZ S.A., Medellin, Colombia; c/o UNION DE CONSTRUCTORES CONUSA S.A., Bogota, Colombia; Carrera 48B No. 10 Sur-76, Medellin, Colombia; DOB 29 Mar 1985; POB Medellin, Colombia; Cedula No. 80796876 (Colombia) (individual) [SDNTK].

4. CIFUENTES VILLA, Teresa de Jesus (a.k.a. CIFUENTES VILLA, Maria Teresa), c/o C.I. DISTRIBUIDORA DE SERVICIOS COMBUSTIBLES Y MINERIA S.A., Bogota, Colombia; c/o RED MUNDIAL INMOBILIARIA, S.A. DE C.V., Huixquilucan, Estado de Mexico, Mexico; c/o ROBLE DE MINAS S.A., Medellin, Colombia; Avenida Xochilt No. 4262-10, Colonia Prados Tepeyac, Zapopan, Jalisco C.P. 45050, Mexico; Privada Paseo de las Montanas No. 100, Colonia Club de Golf Santa Anita, Tlacumulco de Zuniga, Jalisco C.P. 45640, Mexico; DOB 13 Jun 1953; POB Medellin, Colombia; Cedula No. 32505252 (Colombia); Passport AJ111604 (Colombia); R.F.C. CIVT530613DI0 (Mexico); C.U.R.P. CIVT530613MNEFLR00 (Mexico) (individual) [SDNTK].

5. CIFUENTES VILLA, Jorge Milton (a.k.a. LOPEZ SALAZAR, Elkin de Jesus; a.k.a. OSUNA VILLARREAL, Sergio), Calle 6 No. 33-29 Apto. 801, Medellin, Colombia; Calle 74 No. 10-33 Apto. 806, Bogota, Colombia; Calle Blas Pascal No. 106, Colonia Los Morales, Delegacion Miguel Hidalgo, Mexico City, Distrito Federal C.P. 11510, Mexico; Calle Eje J No. 999 Pasaje Santa Fe, Departamento No. 301, Colonia Ciudad Santa Fe, Delegacion Alvaro Obregon, Mexico City, Distrito Federal C.P. 01210, Mexico; Camino del Remanso, No. 80 A, Planta Baja, Colonia Lomas Country Club, Huixquilucan, Estado de Mexico C.P. 52779, Mexico; Camino del Remanso No. 80 Interior 2, Colonia Lomas Country Club, Huixquilucan, Estado de Mexico C.P. 52779, Mexico; Carrera 8 No. 10-56 Of. 201, Cali, Colombia; Carrera 68D No. 25-10, Lote 41 E/S Terminal, Bogota, Colombia; Carrera 68D No. 25B-86 Of. 504, Bogota, Colombia; Miguel Schultz No. 127, Colonia San Rafael, Delegacion Cuauhtemoc, Mexico City, Distrito Federal C.P. 06470, Mexico; Paseo de las Gacelas No. 550, Fraccionamiento Ciudad Bugambilias, Guadalajara, Jalisco, Mexico; DOB 13 May 1965; alt. DOB 13 Apr 1968; alt. DOB 07 Jul 1964; POB Medellin, Colombia; alt. POB Marinilla, Antioquia, Colombia; alt. POB Ciudad Victoria, Tamaulipas, Mexico; Cedula No. 7548733 (Colombia); alt. Cedula No. 70163752 (Colombia); alt. Cedula No. 172489729-1 (Ecuador); Passport AL720622 (Colombia); R.F.C. CIVJ650513LJA (Mexico); alt. R.F.C. OUSV-640707 (Mexico); C.U.R.P. CIVJ650513HNEFLR06 (Mexico); alt. C.U.R.P. OUVS640707HTSSLR07 (Mexico); Matricula Mercantil No 181301-1 Cali (Colombia); alt. Matricula Mercantil No 405885 Bogota (Colombia) (individual) [SDNTK] (Linked To: BIO FORESTAL S.A.S.; Linked To: CUBI CAFE CLICK CUBE MEXICO, S.A. DE C.V.; Linked To: DOLPHIN DIVE SCHOOL S.A.; Linked To: GANADERIA LA SORGUITA S.A.S.; Linked To: GESTORES DEL ECUADOR GESTORUM S.A.; Linked To: INVERPUNTO DEL VALLE S.A.; Linked To: INVERSIONES CIFUENTES Y CIA. S. EN C.; Linked To: LE CLAUDE, S.A. DE C.V.; Linked To: OPERADORA NUEVA GRANADA, S.A. DE C.V.; Linked To: PARQUES TEMATICOS S.A.S.; Linked To: PROMO RAIZ S.A.S.; Linked To: RED MUNDIAL INMOBILIARIA, S.A. DE C.V.; Linked To: FUNDACION PARA EL BIENESTAR Y EL PORVENIR; Linked To: C.I. METALURGIA EXTRACTIVA DE COLOMBIA S.A.S.; Linked To: GRUPO MUNDO MARINO, S.A.; Linked To: C.I. DISERCOM S.A.S.; Linked To: C.I. OKCOFFEE COLOMBIA S.A.S.; Linked To: C.I. OKCOFFEE INTERNATIONAL S.A.S.; Linked To: FUNDACION OKCOFFEE COLOMBIA; Linked To: CUBICAFE S.A.S.; Linked To: HOTELES Y BIENES S.A.; Linked To: FUNDACION SALVA LA SELVA; Linked To: LINEA AEREA PUEBLOS AMAZONICOS S.A.S.; Linked To: DESARROLLO MINERO RESPONSABLE C.I. S.A.S.; Linked To: R D I S.A.).

6. GALLEGO MARIN, Fabian Rodrigo, c/o IGA LTDA., Itagui, Antioquia, Colombia; c/o RUTA 33 MOTOCICLETAS Y ACCESORIOS LTDA., Medellin, Colombia; Calle 79A Sur No. 46-53, Sabaneta, Antioquia, Colombia; Avenida Homero No. 136, Interior 10, Colonia Chapultepec Morales, Delegacion Miguel Hidalgo, Mexico City, Distrito Federal, Mexico; Calle Rio Elba No. 56, Interior 6, Colonia Cuauhtemoc, Delegacion Cuauhtemoc, Mexico City, Distrito Federal C.P. 06170, Mexico; c/o INTERNATIONAL GROUP OIRALIH, S.A. DE C.V., Huixquilucan, Estado de Mexico, Mexico; c/o NEGOCIOS INTERNACIONALES DEL ECUADOR NIDEGROUP S.A., Quito, Pichincha, Ecuador; DOB 25 Aug 1967; Cedula No. 98522962 (Colombia) (individual) [SDNTK].

7. NICHOLLS EASTMAN, Winston, c/o CROSS WINDS, S.A., Panama City, Panama; c/o FEDERAL CAPITAL GROUP, S.A., Panama City, Panama; c/o LINEAS AEREAS ANDINAS LINCANDISA S.A., Quito, Ecuador; c/o COMERCIALIZADORA EMPRESARIAL TEAM BUSINESS S.A., Quito, Pichincha, Ecuador; DOB 27 Mar 1943; POB Manizales, Colombia; Cedula No. 5199571 (Colombia); Residency Number 172191348-9 (Ecuador) (individual) [SDNTK].

8. YELINEK, Shimon Yalin (a.k.a. YELINKE, Shimon), c/o CROCKER JEANS CORP. S.A., Panama City, Panama; c/o CROCKER JEANS STATION CORPORATION, Panama City, Panama; c/o FOX FASHION, S.A., Panama City, Panama; DOB 23 Jan 1961; POB Israel; Cedula No. E-8-92856 (Panama); Passport 9023900 (Israel) (individual) [SDNTK].

9. VARGAS CIFUENTES, Paula Andrea, c/o C.I. GLOBAL INVESTMENTS S.A., Medellin, Colombia; c/o HOTELES Y BIENES S.A., Bogota, Colombia; c/o INVERPUNTO DEL VALLE S.A., Cali, Colombia; c/o PARQUES TEMATICOS S.A., Medellin, Colombia; Boulevard Bugambilias No. 2114, Ciudad Bugambilias, Zapopan, Jalisco, Mexico; DOB 23 May 1976; POB Medellin, Colombia; Cedula No. 66973070 (Colombia); Passport AK715253 (Colombia); C.U.R.P. VACP760523MNERFL00 (Mexico) (individual) [SDNTK].

10. VARGAS CIFUENTES, Edmon Felipe, c/o HOTELES Y BIENES S.A., Bogota, Colombia; c/o PROMO RAIZ S.A., Medellin, Colombia; c/o C.I. GLOBAL INVESTMENTS S.A., Medellin, Colombia; Zapopan, Jalisco, Mexico; DOB 19 Aug 1978; POB Medellin, Colombia; Cedula No. 79934460 (Colombia); Passport AI999013 (Colombia); C.U.R.P. VACE780819HNERFD01 (Mexico) (individual) [SDNTK].

Entities

1. TRANSPORTADORA Y COMERCIALIZADORA SYSTOLE S.A.S., Calle 6A No. 22-46 Apto. 1104, Medellin, Colombia; Carrera 41A No. 22 Sur-87 Apto. 510, Envigado, Antioquia, Colombia; NIT #900184013-1 (Colombia) [SDNTK].

2. BIO FORESTAL S.A.S. (f.k.a. BIO FORESTAL S.A.; f.k.a. BIOFORESTAL S.A.), Autopista Bogota-Medellin Km. 7, Parque Industrial Celta Lote 41 Bodega 8, Funza, Cundinamarca, Colombia; Calle 7 Sur No. 42-70 Of. 1205, Medellin, Colombia; Finca Casa Blanca, Arboletes y Necoli, Antioquia, Colombia; Finca La Cana, Cordoba, Colombia; Finca San Luis, Monteria, Cordoba, Colombia; Finca Toldas, Guarne, Antioquia, Colombia; La Sorguita, Jerico, Antioquia, Colombia; NIT#811038709-1 (Colombia) [SDNTK].

3. C.I. DISERCOM S.A.S. (f.k.a. C.I. DISERCOM S.A.; f.k.a. C.I. DISTRIBUIDORA DE SERVICIOS COMBUSTIBLES Y MINERIA S.A.; f.k.a. DISERCOM S.A.; f.k.a. DISTRIBUIDORA DE SERVICIOS Y COMBUSTIBLES S.A.), Autopista Bogota-Medellin Km. 7, Parque Industrial Celta Lote 41 Bodega 8, Funza, Cundinamarca, Colombia; Carrera 13 No. 29-21, Manzana 1 Oficina 401, Bogota, Colombia; NIT#830046009-5 (Colombia) [SDNTK].

4. C.I. METALURGIA EXTRACTIVA DE COLOMBIA S.A.S. (a.k.a. C.I. METEXCOL S.A.S.), Carrera 86 No. 13A-66, Bogota, Colombia; NIT#900389216-9 (Colombia) [SDNTK].

5. C.I. OKCOFFEE COLOMBIA S.A.S. (f.k.a. C.I. OKCOFFEE COLOMBIA S.A.), Autopista Bogota-Medellin Km. 7, Parque Industrial Celta Lote 41 Bodega 8, Funza, Cundinamarca, Colombia; NIT#830124959-1 (Colombia) [SDNTK].

6. C.I. OKCOFFEE INTERNATIONAL S.A.S. (f.k.a. C.I. OKCOFFEE INTERNATIONAL S.A.), Autopista Bogota-Medellin Km. 7, Parque Industrial Celta Lote 41 Bodega 8, Funza, Cundinamarca, Colombia; NIT#900060391-6 (Colombia) [SDNTK].

7. CROCKER JEANS CORP. S.A., Panama City, Panama; RUC #721135-1-473097 (Panama) [SDNTK].

8. CROCKER JEANS STATION CORPORATION, Panama City, Panama; RUC #744528-1-478564 (Panama) [SDNTK].

9. CROSS WINDS, S.A., Panama City, Panama; RUC #1303425-1-607081-77 (Panama) [SDNTK].

10. CUBI CAFE CLICK CUBE MEXICO, S.A. DE C.V., Montecito No. 38 Piso 21 Of. 29, Col. Napoles, Deleg. Benito Juarez, Mexico City, Distrito Federal C.P. 03810, Mexico; R.F.C. CCC-070201-4W7 (Mexico) [SDNTK].

11. CUBICAFE S.A.S. (f.k.a. CUBICAFE S.A.; a.k.a. OK COFFEE), Autopista Bogota-Medellin Km. 7, Parque Industrial Celta Lote 41 Bodega 8, Funza, Cundinamarca, Colombia; Calle 65 Bis No. 89A-73, Bogota, Colombia; NIT#830136426-1 (Colombia) [SDNTK].

12. DESARROLLO MINERO RESPONSABLE C.I. S.A.S. (a.k.a. DMR C.I. S.A.S.); NIT#900386627-9 (Colombia) [SDNTK].

13. DOLPHIN DIVE SCHOOL S.A., Calle Jardin No 39-45, Cartagena, Colombia; Isla Pavito, Cartagena, Colombia; NIT#806008379-6 (Colombia) [SDNTK].

14. FEDERAL CAPITAL GROUP, S.A. (f.k.a. GARIZIM CAPITAL GROUP, S.A.), Panama City, Panama; RUC #1149963-1-571540 (Panama) [SDNTK].

15. FOX FASHION, S.A. (a.k.a. FOX KIDS & BABY; a.k.a. FOX MEN & WOMEN), Albrook Mall, Local Q-20, Panama City, Panama; Albrook Mall, Local 47-B, Panama City, Panama; Multiplaza, Local 207, Panama City, Panama; RUC #699492-1-468385-12 (Panama) [SDNTK].

16. FUNDACION SALVA LA SELVA; NIT#900390392-9 (Colombia) [SDNTK].

17. GANADERIA LA SORGUITA S.A.S. (f.k.a. GANADERIA LA SORGUITA S.A.; f.k.a. LA SORGUITA S.A.), Calle 16 Sur No. 46A-49 Piso 6, Medellin, Colombia; NIT#800220730-4 (Colombia) [SDNTK].

18. GRUPO MUNDO MARINO, S.A., Panama; Business Registration Document #383112 (Panama) [SDNTK].

19. HOTELES Y BIENES S.A. (a.k.a. HOTEL NUEVA GRANADA), Avenida Calle 13 No. 4-77, Bogota, Colombia; Avenida Jimenez No. 4-77, Bogota, Colombia; NIT#830092519-5 (Colombia) [SDNTK].

20. IGA LTDA., Carrera 47 No. 66-127, Itagui, Antioquia, Colombia; NIT#811033126-3 (Colombia) [SDNTK].

21. INTERNATIONAL GROUP OIRALIH, S.A. DE C.V., Boulevard Interlomas 5 Local W-13, Colonia San Fernando La Herradura, Huixquilucan, Estado de Mexico C.P. 52787, Mexico; R.F.C. IGO0106296K5 (Mexico) [SDNTK].

22. INVERPUNTO DEL VALLE S.A., Calle 4 No. 6-02, Cali, Colombia; NIT#805024892-7 (Colombia) [SDNTK].

23. INVERSIONES CIFUENTES Y CIA. S. EN C., Calle 7 Sur No. 42-70 Of. 1205, Medellin, Colombia; NIT#811008928-8 (Colombia) [SDNTK].

24. LE CLAUDE, S.A. DE C.V., Calle Miguel E. Shultz No. 127, Colonia San Rafael, Delegacion Cuauhtemoc, Mexico City, Distrito Federal C.P. 06470, Mexico; R.F.C. LCL020619C14 (Mexico) [SDNTK].

25. LINEA AEREA PUEBLOS AMAZONICOS S.A.S. (a.k.a. LAPA S.A.S.), Mitu, Vaupes, Colombia; Villavicencio, Colombia; NIT#900377739-7 (Colombia) [SDNTK].

26. NEGOCIOS INTERNACIONALES DEL ECUADOR NIDEGROUP S.A., Calle B, Lote 27 y Calle A, Quito, Pichincha, Ecuador; RUC #1792138884001 (Ecuador) [SDNTK].

27. OPERADORA NUEVA GRANADA, S.A. DE C.V., Avenida 13 No. 4-77, Bogota, Colombia; Mexico City, Distrito Federal, Mexico; Folio Mercantil No. 293481 Distrito Federal (Mexico) [SDNTK].

28. PARQUES TEMATICOS S.A.S. (a.k.a. HACIENDA HOTEL EL INDIO; f.k.a. PARQUES TEMATICOS S.A.), Calle 16C Sur No. 42-70, Apto. 502, Medellin, Colombia; Vereda la Playita, Barbosa, Antioquia, Colombia; NIT#811035877-5 (Colombia) [SDNTK].

29. PROMO RAIZ S.A.S. (f.k.a. PROMO RAIZ S.A.), Calle 7 Sur No. 42-70 Of. 1205, Medellin, Colombia; NIT#811035904-6 (Colombia) [SDNTK].

30. R D I S.A., Calle 64A No. 32-52, Bogota, Colombia; NIT#830054366-3 (Colombia) [SDNTK].

31. RED MUNDIAL INMOBILIARIA, S.A. DE C.V., Av. Parques de Granada No. 32-405, Col. Parques de la Herradura, Huixquilucan, Estado de Mexico, Mexico; Calle Montecito No. 38, Piso 21, Colonia Napoles, Delegacion Benito Juarez, Mexico City, Distrito Federal C.P. 03810, Mexico; R.F.C. RMI020130JB9 (Mexico) [SDNTK].

32. RUTA 33 MOTOCICLETAS Y ACCESORIOS LTDA., Avenida 33 No. 66B-134, Medellin, Colombia; NIT#900105312-1 (Colombia) [SDNTK].

33. UNION DE CONSTRUCTORES CONUSA S.A.S. (f.k.a. UNION DE CONSTRUCTORES CONUSA S.A.), Apartamentos Life, Medellin, Colombia; Boca Salinas, Santa Marta, Colombia; Calle 74 No. 10-33, Mirador del Moderno, Bogota, Colombia; Carrera 68D No. 258-86 Of. 504 Torre Central, Bogota, Colombia; Haciendas de Potrerito, Cali, Colombia; Isla Pavito, Cartagena, Colombia; Transversal 1B Este No. 7A-20 Sur, Buenos Aires Etapa II, Bogota, Colombia; NIT#800226431-4 (Colombia) [SDNTK].

Dated: November 12, 2021.
Gregory T. Gatjanis,
Associate Director, Office of Global Targeting Office of Foreign Assets Control, U.S. Department of the Treasury.

Editorial note: This document was received for publication by the Office of the Federal Register on May 16, 2022.

[FR Doc. 2022-10769 Filed 5-18-22; 8:45 am]

BILLING CODE 4810-AL-P